LEGAL SERVICES CORPORATION

Sunshine Act Meeting

TIME AND DATE: The Institutional Advancement Committee of the Legal Services Corporation Board of Directors will meet virtually on January 11, 2023. The meeting will commence at 3:30 p.m. EST, and will continue until the conclusion of the Committee's agenda.

PLACE: Public Notice of Virtual Meetings

LSC will conduct the January 11, 2023 meeting via Zoom.

Public Observation: Unless otherwise noted herein, the Committee meeting will be open to public observation via Zoom. Members of the public who wish to participate remotely in the public proceedings may do so by following the directions provided below.

Directions for Open Session:

January 11, 2023

• To join the Zoom meeting by computer, please use this link.

○ https://lsc-gov.zoom.us/j/82497571722?pwd=a01nOVVCd2pzUXRLdEpmSnFTTjJHZz09&from=addon

Meeting ID: 824 9757 1722

○ Passcode: 181403

• To join the Zoom meeting with one tap from your mobile phone, please click dial:

○ +13017158592,,82497571722# US (Washington DC)

○ +16468769923,,82497571722# US (New York)

• To join the Zoom meeting by telephone, please dial one of the following numbers:

○ +1 301 715 8592 US (Washington DC)

○ +1 646 876 9923 US (New York)

○ +1 312 626 6799 US (Chicago)

○ +1 669 900 6833 US (San Jose)

○ +1 253 215 8782 US (Tacoma)

○ +1 346 248 7799 US (Houston)

○ Meeting ID: 824 9757 1722

○ Passcode: 181403

Once connected to Zoom, please immediately mute your computer or telephone. Members of the public are asked to keep their computers or telephones muted to eliminate background noise. To avoid disrupting the meetings, please refrain from placing the call on hold if doing so will trigger recorded music or other sound.

From time to time, the Committee Chair may solicit comments from the public. To participate in the meeting during public comment, use the `raise your hand' or `chat' functions in Zoom and wait to be recognized by the Chair before stating your questions and/or comments.

STATUS: Open.

MATTERS TO BE CONSIDERED:

Open Session

1. Approval of Agenda

2. Approval of Minutes of the Institutional Advancement Committee's Open Session Meeting on October 20, 2022

3. Discussion of the Committee' Self-Evaluation for 2022 and Goals for 2023

4. Update on Leaders Council and Emerging Leaders Council

• John G. Levi, Chairman of the Board

5. Development Report

• Nadia Elguindy, Director of Institutional Advancement

6. Update on Opioid and Veterans Task Forces

• Stefanie Davis, Senior Assistant General Counsel

7. Update on Housing Task Force

• Helen Guyton, Senior Assistant General Counsel

8. Update on Rural Justice Task Force

• Jessica Wechter, Special Assistant to the President

9. Update on the Eviction Study

• Lynn Jennings, Vice President for Grants Management

10. Public Comment

11. Consider and Act on Other Business

12. Consider and Act on Motion to Adjourn the Open Session Meeting and Proceed to a Closed Session

Closed Session

1. Approval of Minutes of the Institutional Advancement Committee's Closed Session Meeting on October 20, 2022

2. Development Activities Report

• Nadia Elguindy, Director of Institutional Advancement

3. Update on LSC's 50th Anniversary Fundraising Campaign

• Nadia Elguindy, Director of Institutional Advancement

• Leo Latz, Latz & Company

4. Consider and Act on Motion to Approve Leaders Council and Emerging Leaders Council Invitees

5. Consider and Act on Other Business

6. Consider and Act on Motion to Adjourn the Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

Dated: December 23, 2022.
Jessica Wechter,
Special Assistant to the President, Legal Services Corporation.

[FR Doc. 2022-28420 Filed 12-27-22; 11:15 am]

BILLING CODE 7050-01-P